DEPARTMENT OF AGRICULTURE

Natural Resources Conservation Service

[Docket ID NRCS-2023-0015]

Information Collection Request; Conservation Outreach, Education, and Technical Assistance

AGENCY: Natural Resources Conservation Service, USDA.

ACTION: Notice; request for comments.

SUMMARY: In accordance with the Paperwork Reduction Act requirement, the Natural Resources Conservation Service (NRCS), Outreach and Partnership Division (OPD) is requesting comments from all interested individuals and organizations on a new information collection request associated with Conservation Outreach, Education, and Technical Assistance. The approved recipients will report the equity information to NRCS OPD on the underserved producers and communities who receive conservation assistance and students who are interested to pursue agriculture, natural resources and related sciences careers.

DATES: We will consider comments that we receive by September 26, 2023.

ADDRESSES: We invite you to submit comments on this notice. You may submit comments, identified by Docket ID: NRCS-2023-0015 in the Federal eRulemaking Portal: Go to http://www.regulations.gov. Follow the online instructions for submitting comments.

You may also send comments to the Desk Officer for Agriculture, Office of Information and Regulatory Affairs, Office of Management and Budget, Washington, DC 20503.

FOR FURTHER INFORMATION CONTACT: Jill Howard; by telephone: 701-214-8874; or by email: jill.howard@usda.gov. Individuals who require alternative means for communication should contact the USDA TARGET Center at (202) 720-2600 (voice and text telephone (TTY)) or dial 711 for Telecommunications Relay service (both voice and text telephone users can initiate this call from any telephone).

SUPPLEMENTARY INFORMATION:

Title: Conservation Outreach, Education, and Technical Assistance.

OMB Control Number: 0578-XXXX.

Type of Request: New.

Abstract: NRCS OPD is administrating the Equity in Conservation Outreach cooperative agreements. As the primary goal of NRCS, in collaboration with partners, is to expand conservation assistance to historically underserved producers and underserved communities and to provide opportunities for students to pursue careers in agriculture, natural resources, and related sciences.

After the cooperative agreements are awarded, the cooperators will be required to provide performance reports to provide information as specified in the general terms and conditions in the executed cooperative agreement. Recipients will report semi-annually. In order to evaluate the impact and effectiveness of the agreement via standardized metrics, NRCS OPD is offering a performance reporting template as a supplement to the required performance report.

For the following estimated total annual burden on respondents, the formula used to calculate the total burden hours is the estimated average time per responses multiplied by the estimated total annual of responses annually.

Estimate of Average Time To Respond: The reporting burden for collecting information is estimated to average 4 hours per response, including the time for reviewing instructions, searching existing data sources, gathering and maintaining the data needed, and completing and reviewing the collection of information.

Type of Respondents: OPD Cooperative Agreement Recipients.

Estimated Number of Respondents: 150.

Estimated Average Number of Responses per Respondent: 2.

Estimated Total Annual Responses: 300.

Estimated Total Annual Burden on Respondents: 1,200.

NRCS is requesting comments on all aspects of this information collection to help us to:

(1) Evaluate whether the proposed collection of information is necessary for the proper performance of the functions of the agency, including whether the information will have practical utility;

(2) Evaluate the accuracy of the agency's estimate of burden of the collection of information including the validity of the methodology and assumptions used;

(3) Evaluate the quality, utility and clarity of the information technology; and

(4) Minimize the burden of the information collection on those who respond through the use of appropriate automated, electronic, mechanical, or other technological collection techniques or other forms of information technology.

All comments received in response to this notice, including names and addresses where provided, will be made a matter of public record. Comments will be summarized and included in the request for OMB approval.

USDA Non-Discrimination Policy

In accordance with Federal civil rights law and USDA civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and text telephone (TTY) or dial 711 for Telecommunications Relay Service (both voice and text telephone users can initiate this call from any telephone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by mail to: U.S. Department of Agriculture, Office of the Assistant Secretary for Civil Rights, 1400 Independence Avenue SW, Washington, DC 20250-9410 or email: OAC@usda.gov.

USDA is an equal opportunity provider, employer, and lender.

Terry Cosby,
Chief, Natural Resources Conservation Service.

[FR Doc. 2023-16060 Filed 7-27-23; 8:45 am]

BILLING CODE 3410-16-P